Executive Order 14046 of September 17, 2021

Imposing Sanctions on Certain Persons With Respect to the Humanitarian and Human Rights Crisis in Ethiopia

By the authority vested in me as President by the Constitution and the laws of the United States of America, including the International Emergency Economic Powers Act (50 U.S.C. 1701 et seq.) (IEEPA), the National Emergencies Act (50 U.S.C. 1601 et seq.) (NEA), sections 212(f) and 215(a) of the Immigration and Nationality Act of 1952 (8 U.S.C. 1182(f) and 1185(a)), and section 301 of title 3, United States Code,

I, JOSEPH R. BIDEN JR., President of the United States of America, find that the situation in and in relation to northern Ethiopia, which has been marked by activities that threaten the peace, security, and stability of Ethiopia and the greater Horn of Africa region—in particular, widespread violence, atrocities, and serious human rights abuse, including those involving ethnic-based violence, rape and other forms of gender-based violence, and obstruction of humanitarian operations—constitutes an unusual and extraordinary threat to the national security and foreign policy of the United States. I hereby declare a national emergency to deal with that threat.

The widespread humanitarian crisis precipitated by the violent conflict in northern Ethiopia has left millions of people in need of humanitarian assistance and has placed an entire region on the brink of famine. While maintaining pressure on those persons responsible for the crisis, the United States will seek to ensure that appropriate personal remittances to non-blocked persons and humanitarian assistance to at-risk populations can flow to Ethiopia and the greater Horn of Africa region through legitimate and transparent channels, including governments, international organizations, and non-profit organizations. The United States supports ongoing international efforts to promote a negotiated ceasefire and political resolution of this crisis, to ensure the withdrawal of Eritrean forces from Ethiopia, and to promote the unity, territorial integrity, and stability of Ethiopia.

Accordingly, I hereby order:

Section 1. The Secretary of the Treasury is authorized to impose any of the sanctions described in section 2(a) of this order on any foreign person determined by the Secretary of the Treasury, in consultation with the Secretary of State:

(a) to be responsible for or complicit in, or to have directly or indirectly engaged or attempted to engage in, any of the following:

(i) actions or policies that threaten the peace, security, or stability of Ethiopia, or that have the purpose or effect of expanding or extending the crisis in northern Ethiopia or obstructing a ceasefire or a peace process;

(ii) corruption or serious human rights abuse in or with respect to northern Ethiopia;

(iii) the obstruction of the delivery or distribution of, or access to, humanitarian assistance in or with respect to northern Ethiopia, including attacks on humanitarian aid personnel or humanitarian projects;

(iv) the targeting of civilians through the commission of acts of violence in or with respect to northern Ethiopia, including involving abduction, forced displacement, or attacks on schools, hospitals, religious sites, or locations where civilians are seeking refuge, or any conduct that would constitute a violation of international humanitarian law;

(v) planning, directing, or committing attacks in or with respect to northern Ethiopia against United Nations or associated personnel or African Union or associated personnel;

(vi) actions or policies that undermine democratic processes or institutions in Ethiopia; or

(vii) actions or policies that undermine the territorial integrity of Ethiopia;

(b) to be a military or security force that operates or has operated in northern Ethiopia on or after November 1, 2020;

(c) to be an entity, including any government entity or a political party, that has engaged in, or whose members have engaged in, activities that have contributed to the crisis in northern Ethiopia or have obstructed a ceasefire or peace process to resolve such crisis;

(d) to be a political subdivision, agency, or instrumentality of the Government of Ethiopia, the Government of Eritrea or its ruling People's Front for Democracy and Justice, the Tigray People's Liberation Front, the Amhara regional government, or the Amhara regional or irregular forces;

(e) to be a spouse or adult child of any sanctioned person;

(f) to be or have been a leader, official, senior executive officer, or member of the board of directors of any of the following, where the leader, official, senior executive officer, or director is responsible for or complicit in, or who has directly or indirectly engaged or attempted to engage in, any activity contributing to the crisis in northern Ethiopia:

(i) an entity, including a government entity or a military or security force, operating in northern Ethiopia during the tenure of the leader, official, senior executive officer, or director;

(ii) an entity that has, or whose members have, engaged in any activity contributing to the crisis in northern Ethiopia or obstructing a ceasefire or a peace process to resolve such crisis during the tenure of the leader, official, senior executive officer, or director; or

(iii) the Government of Ethiopia, the Government of Eritrea or its ruling People's Front for Democracy and Justice, the Tigray People's Liberation Front, the Amhara regional government, or the Amhara regional or irregular forces, on or after November 1, 2020;

(g) to have materially assisted, sponsored, or provided financial, material, or technological support for, or goods or services to or in support of, any sanctioned person; or

(h) to be owned or controlled by, or to have acted or purported to act for or on behalf of, directly or indirectly, any sanctioned person.

Sec. 2. (a) When the Secretary of the Treasury, in consultation with the Secretary of State, has determined that a foreign person meets any of the criteria described in section 1(a)-(h) of this order, the Secretary of the Treasury is authorized to select, in consultation with the Secretary of State, one or more of the sanctions set forth in subsections (a)(i)(A)-(E) or (a)(ii)(A)-(B) of this section to impose on that foreign person:

(i) the Secretary of the Treasury shall take the following actions as necessary to implement the selected sanctions:

(A) block all property and interests in property of the sanctioned person that are in the United States, that hereafter come within the United States, or that are or hereafter come within the possession or control of any United States person, and provide that such property and interests in property may not be transferred, paid, exported, withdrawn, or otherwise dealt in;

(B) prohibit any United States person from investing in or purchasing significant amounts of equity or debt instruments of the sanctioned person;

(C) prohibit any United States financial institution from making loans or providing credit to the sanctioned person;

(D) prohibit any transactions in foreign exchange that are subject to the jurisdiction of the United States and in which the sanctioned person has any interest; or

(E) impose on the leader, official, senior executive officer, or director of the sanctioned person, or on persons performing similar functions and with similar authorities as such leader, official, senior executive officer, or director, any of the sanctions described in subsections (a)(i)(A)-(D) of this section that are applicable.

(ii) the heads of the relevant executive departments and agencies, in consultation with the Secretary of the Treasury, shall take the following actions as necessary and appropriate to implement the sanctions selected by the Secretary of the Treasury:

(A) actions required to deny any specific license, grant, or any other specific permission or authority under any statute or regulation that requires the prior review and approval of the United States Government as a condition for the export or reexport of goods or technology to the sanctioned person; or

(B) actions required to deny a visa to and exclude from the United States any noncitizen whom the Secretary of the Treasury, in consultation with the Secretary of State, determines is a leader, official, senior executive officer, or director, or a shareholder with a controlling interest in, the sanctioned person.

(b) The prohibitions in subsection (a) of this section apply except to the extent provided by statutes, or in regulations, orders, directives, or licenses that may be issued pursuant to this order, and notwithstanding any contract entered into or any license or permit granted before the date of this order. No entity shall be blocked pursuant to this order solely because it is owned in whole or in part, directly or indirectly, by one or more sanctioned persons, unless the entity is itself a sanctioned person and the sanctions in section 2(a)(i)(A) of this order are imposed on the entity.

Sec. 3. The prohibitions in section 2(a) of this order include:

(a) the making of any contribution or provision of funds, goods, or services by, to, or for the benefit of any person whose property and interests in property are blocked pursuant to this order; and

(b) the receipt of any contribution or provision of funds, goods, or services from any such person.

Sec. 4. (a) The unrestricted immigrant and nonimmigrant entry into the United States of noncitizens determined to meet one or more of the criteria in section l of this order, and for whom the sanctions described in section 2(a)(i)(A) or section 2(a)(ii)(B) of this order have been selected, would be detrimental to the interests of the United States, and the entry of such persons into the United States, as immigrants or nonimmigrants, is hereby suspended, except when the Secretary of State or the Secretary of Homeland Security, as appropriate, determines that the person's entry would not be contrary to the interests of the United States, including when the Secretary of State or the Secretary of Homeland Security, as appropriate, so determines, based on a recommendation of the Attorney General, that the person's entry would further important United States law enforcement objectives.

(b) The Secretary of State shall implement this order as it applies to visas pursuant to such procedures as the Secretary of State, in consultation with the Secretary of Homeland Security, may establish.

(c) The Secretary of Homeland Security shall implement this order as it applies to the entry of noncitizens pursuant to such procedures as the Secretary of Homeland Security, in consultation with the Secretary of State, may establish.

(d) Such persons shall be treated by this section in the same manner as persons covered by section 1 of Proclamation 8693 of July 24, 2011 (Suspension of Entry of Aliens Subject to United Nations Security Council Travel Bans and International Emergency Economic Powers Act Sanctions).

Sec. 5. (a) Any transaction that evades or avoids, has the purpose of evading or avoiding, causes a violation of, or attempts to violate any of the prohibitions set forth in this order is prohibited.

(b) Any conspiracy formed to violate any of the prohibitions set forth in this order is prohibited.

Sec. 6. I hereby determine that the making of donations of the types of articles specified in section 203(b)(2) of IEEPA (50 U.S.C. 1702(b)(2)) by, to, or for the benefit of any person whose property and interests in property are blocked pursuant to this order would seriously impair my ability to deal with the national emergency declared in this order, and I hereby prohibit such donations as provided by section 2 of this order.

Sec. 7. For the purposes of this order:

(a) the term “entity” means a partnership, association, trust, joint venture, corporation, group, subgroup, or other organization;

(b) the term “Government of Ethiopia” means the Government of Ethiopia, any political subdivision, agency, or instrumentality thereof, including the National Bank of Ethiopia, and any person owned, controlled, or directed by, or acting for or on behalf of, the Government of Ethiopia;

(c) the term “Government of Eritrea” means the Government of Eritrea, any political subdivision, agency, or instrumentality thereof, including the Bank of Eritrea, and any person owned, controlled, or directed by, or acting for or on behalf of, the Government of Eritrea;

(d) the term “noncitizen” means any person who is not a citizen or noncitizen national of the United States;

(e) the term “person” means an individual or entity;

(f) the term “sanctioned person” means a foreign person that the Secretary of the Treasury, in consultation with the Secretary of State, has determined meets any of the criteria described in section 1 of this order and has selected, in consultation with the Secretary of State, one or more of the sanctions set forth in section 2(a) of this order to impose on that foreign person; and

(g) the term “United States person” means any United States citizen, lawful permanent resident, entity organized under the laws of the United States or any jurisdiction within the United States (including foreign branches), or any person in the United States.

Sec. 8. For those persons whose property and interests in property are blocked or affected by this order who might have a constitutional presence in the United States, I find that because of the ability to transfer funds and other assets instantaneously, prior notice to such persons of measures to be taken pursuant to this order would render those measures ineffectual. I therefore determine that for these measures to be effective in addressing the national emergency declared in this order, there need be no prior notice of a listing or determination made pursuant to section 1 of this order.

Sec. 9. The Secretary of the Treasury, in consultation with the Secretary of State, is authorized to take such actions, including the promulgation of rules and regulations, and to employ all powers granted to the President by IEEPA as may be necessary to carry out the purposes of this order. The Secretary of the Treasury may, consistent with applicable law, redelegate any of these functions within the Department of the Treasury. All executive departments and agencies of the United States shall take all appropriate measures within their authority to implement this order.

Sec. 10. Nothing in this order shall prohibit transactions for the conduct of the official business of the Federal Government by employees, grantees, and contractors thereof.

Sec. 11. The Secretary of the Treasury, in consultation with the Secretary of State, is authorized to submit recurring and final reports to the Congress on the national emergency declared in this order, consistent with section 401(c) of the NEA (50 U.S.C. 1641(c)) and section 204(c) of IEEPA (50 U.S.C. 1703(c)).

Sec. 12. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 17, 2021.

[FR Doc. 2021-20508

Filed 9-20-21; 8:45 am]

Billing code 3295-F1-P